DEPARTMENT OF TRANSPORTATION

Office of the Secretary

Notice of Applications for Certificates of Public Convenience and Necessity and Foreign Air Carrier Permits Filed Under Subpart B (Formerly Subpart Q) During the Week Ending December 28, 2007

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0127.

Date Filed: December 27, 2007.

Due Date for Answers, Conforming Applications, or Motion to Modify Scope: January 17, 2008.

Description: Application of KLM Royal Dutch Airlines, N.V. (“KLM”) requesting an amended foreign air carrier permit to enable KLM to engage in: (1) Foreign scheduled and charter air transportation of persons, property, and mail between any point or points behind any member state of the European Union via any point or point in any member state and via intermediate points to any point or points in the United States or beyond; (2) foreign scheduled and charter air transportation of persons, property and mail between any point or points in the United States and any point or points in any member of the European Common Aviation Area; (3) foreign scheduled and charter cargo air transportation between any point or points in the United States and any other point or points; (4) other charters pursuant to Part 212; and (5) transportation authorized by any additional route rights that may be made available to European Union carriers in the future. KLM also requests a corresponding exemption to enable it to provide the services described above pending issuance of an amendment to KLM's foreign air carrier permit.

Renee V. Wright,
Program Manager, Docket Operations, Federal Register Liaison.

[FR Doc. E8-9317 Filed 4-28-08; 8:45 am]

BILLING CODE 4910-9X-P